MERIT SYSTEMS PROTECTION BOARD

Agency Information Collection Activities; Emergency Reinstatement of Previously Approved Collection

AGENCY: Merit Systems Protection Board.

ACTION: Notice of emergency reinstatement.

SUMMARY: The Merit Systems Protection Board (MSPB) is requesting approval from the Office of Management and Budget (OMB) to reinstate Information Collection Request (ICR) 3124-0009, E-Appeal/US Merit Systems Protection Board Appeal Form which expired on March 31, 2012. This ICR is necessary for individuals who file appeals with MSPB. The form serves as a guide to appellants in providing all needed information. The MSPB is requesting emergency reinstatement approval from OMB by November 27, 2012. A revised version of the MSPB Appeal Form (Form 185) was approved by OMB on November 5, 2012. At this time, MSPB is requesting public comments on the previous version of Form 185, which is available for review on MSPB's Web site at http://www.mspb.gov/appeals/forms.htm.

DATES: Written comments must be received on or before November 23, 2012.

ADDRESSES: Submit comments on the collection of information to the Office of Management and Budget, Attn: Desk Officer for MSPB, via fax at 202-395-6974 or email at OIRA_Submission@omb.eop.gov.

FOR FURTHER INFORMATION CONTACT: Please contact William D. Spencer, Clerk of the Board, Merit Systems Protection Board, 1615 M Street NW., Washington, DC 20419; telephone 202-653-7200; fax 202-653-7130; or email mspb@mspb.gov. Persons without Internet access may request a paper copy of the MSPB Appeal Form from the Office of the Clerk of the Board.

Previous Version of MSPB Appeal Form 185

A revised version of Form 185 was included in the Federal Register notice published on October 29, 2012. (See 77 FR 65586.) That ICR request was approved by OMB on November 5, 2012. The MSPB now requests emergency reinstatement of the same ICR but with the previous version of Form 185.

We are concerned that the abrupt implementation of the revised version of the form will be confusing to the parties appearing before MSPB. Indeed, if we implement the revised version only to modify it further following the requisite notice-and-comment periods under the Paperwork Reduction Act, we believe that it will add to any confusion and result in inefficiencies in processing appeals. Most significantly, it will take longer than anticipated to implement a revised form in our e-Appeal Online filing system. This delay will create further confusion for e-filers. Upon approval of this ICR by OMB, we will publish a 60-day notice in the Federal Register seeking pubic comment on the revised version of Form 185 and begin the process of incorporating and testing the revisions in a non-production environment with e-Appeal Online.

Estimated Reporting Burden

In accordance with the requirements of the Paperwork Reduction Act of 1995, MSPB is soliciting comments on the public reporting burden for this information collection. The public reporting burden for this collection of information is estimated to vary from 20 minutes to 4 hours, with an average of 60 minutes per response, including time for reviewing the form and instructions, searching existing data sources, gathering the data necessary, and completing and reviewing the collection of information.

Specifically, MSPB invites comments on: (1) Whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques, when appropriate, and other forms of information technology.

Estimated Annual Reporting Burden
5 CFR parts | Annual number of respondents | Frequency per response | Total annual responses | Hours per response (average) | Total hours
1201.24, 1208.13, 1208.23, and 1209.6 | 7,150 | 1 | 7,150 | 1.0 | 7,150

William D. Spencer,
Clerk of the Board.

[FR Doc. 2012-27995 Filed 11-16-12; 8:45 am]

BILLING CODE 7400-01-P